DEPARTMENT OF HEALTH AND HUMAN SERVICES

Centers for Medicare & Medicaid Services

42 CFR Part 410, 413 and 414

[CMS-1418-N]

RIN 0938-AP57

Medicare Programs; End-Stage Renal Disease Prospective Payment System; Extension of Comment Period

AGENCY: Centers for Medicare & Medicaid Services (CMS), HHS.

ACTION: Notice of extension of comment period for proposed rule.

SUMMARY: This notice extends the comment period for a proposed rule published in the Federal Register on September 29, 2009, (74 FR 49922). The proposed rule would implement a case-mix adjusted bundled prospective payment system (PPS) for Medicare outpatient end-stage renal disease (ESRD) dialysis facilities. The proposed ESRD PPS would also replace the current basic case-mix adjusted composite payment system and the methodologies for the reimbursement of separately billable outpatient ESRD services. The comment period for the proposed rule, which would have ended on November 16, 2009, is extended for 30 days.

DATES: Effective Date: The comment period is extended to 5 p.m. on December 16, 2009.

ADDRESSES: In commenting, please refer to file code CMS-1418-P. Because of staff and resource limitations, we cannot accept comments by facsimile (FAX) transmission.

You may submit comments in one of four ways (please choose only one of the ways listed):

1. Electronically. You may submit electronic comments on this regulation to http://www.regulations.gov.

Follow the instructions under the “More Search Options” tab.

2. By regular mail. You may mail written comments to the following address only:

Centers for Medicare & Medicaid Services, Department of Health and Human Services, Attention: CMS-1418-P, P.O. Box 8010, Baltimore, MD 21244-8010.

Please allow sufficient time for mailed comments to be received before the close of the comment period.

3. By express or overnight mail. You may send written comments to the following address ONLY:

Centers for Medicare & Medicaid Services, Department of Health and Human Services, Attention: CMS-1418-P, Mail Stop C4-26-05, 7500 Security Boulevard, Baltimore, MD 21244-1850.

4. By hand or courier. If you prefer, you may deliver (by hand or courier) your written comments before the close of the comment period to either of the following addresses:

a. For delivery in Washington, DC—Centers for Medicare & Medicaid Services, Department of Health and Human Services, Room 445-G, Hubert H. Humphrey Building, 200 Independence Avenue, SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850.

If you intend to deliver your comments to the Baltimore address, please call telephone number (410) 786-9994 in advance to schedule your arrival with one of our staff members.

Comments mailed to the addresses indicated as appropriate for hand or courier delivery may be delayed and received after the comment period.

FOR FURTHER INFORMATION CONTACT:

William Cymer, (410) 786-4533.

Lynn Riley, (410) 786-1286, (ESRD Quality Incentive Program).

SUPPLEMENTARY INFORMATION: On September 29, 2009, we published a proposed rule in the Federal Register (74 FR 49922 through 50102) that would implement a case-mix adjusted bundled PPS for Medicare outpatient ESRD dialysis facilities beginning January 1, 2011, in compliance with the statutory requirement of the Medicare Improvements for Patients and Providers Act (MIPPA), enacted July 15, 2008. The proposed ESRD PPS would replace the current basic case-mix adjusted composite payment system and the methodologies for the reimbursement of separately billable outpatient ESRD services.

The proposed rule, “Medicare Program; End-Stage Renal Disease Prospective Payment System,” is significant in that it proposes a completely new payment system for outpatient ESRD services. Due to the complexity and scope of the September 29, 2009 proposed rule, we believe additional time is necessary for the public to examine the proposed rule and to provide meaningful comments on its provisions. Therefore, we have decided to extend the comment period for an additional 30 days. This document announces the extension of the public comment period to December 16, 2009.

(Catalog of Federal Domestic Assistance Program No. 93.773, Medicare—Hospital Insurance; and Program No. 93.774, Medicare—Supplementary Medical Insurance Program)

Dated: October 26, 2009.
Charlene Frizzera,
Acting Administrator, Centers for Medicare & Medicaid Services.
Approved: October 30, 2009.
Kathleen Sebelius,
Secretary.

[FR Doc. E9-26529 Filed 11-3-09; 8:45 am]

BILLING CODE 4120-01-P